DEPARTMENT OF HOMELAND SECURITY

Federal Emergency Management Agency

44 CFR Part 67

[Docket ID FEMA-2011-0002; Internal Agency Docket Nos. FEMA-B-7759, FEMA-B-1138 and FEMA-B-1208]

Proposed Flood Elevation Determinations

AGENCY: Federal Emergency Management Agency, DHS.

ACTION: Proposed rule; correction.

SUMMARY: On January 24, 2008, September 27, 2010, and August 3, 2011, FEMA published proposed rules in the Federal Register. The August 3, 2011 proposed rule contained an erroneous table. This notice provides corrections to that table and combines all three notices to be used in lieu of the information published at 73 FR 4144, 75 FR 59192 and 76 FR 46705. The table provided here represents the flooding sources, location of referenced elevations, effective and modified elevations, and communities affected for Lafayette Parish, Louisiana, and Incorporated Areas. Specifically, it addresses the following flooding sources: Acadiana Coulee, Anselm Coulee, Bayou Carencro, Bayou Parc Perdue, Bayou Queue De Tortue, Beau Basin Coulee, Broadmoor Coulee, Coulee Des Poches, Coulee Fortune North, Coulee Fortune South, Coulee Ile Des Cannes, Coulee Ile Des Cannes—Lateral 1, Coulee Ile Des Cannes—Lateral 2, Coulee Ile Des Cannes—Lateral 3, Coulee Ile Des Cannes—Lateral 4, Coulee Lantier, Coulee LaSalle, Coulee Mine, Dan Dabaillion Coulee, Darby Coulee, Edith Coulee, Grand Avenue Coulee, Isaac Verot Coulee, Isaac Verot Coulee—Lateral 2, Isaac Verot Coulee—Lateral 2A, Isaac Verot Coulee—Lateral 3, Jupiter Street Coulee, Manor Park Coulee, Point Brule Coulee, Vermillion River, Webb Coulee (Lower Reach), and West Coulee Mine.

DATES: Comments are to be submitted on or before February 5, 2013.

ADDRESSES: You may submit comments, identified by Docket Nos. FEMA-B-7759, FEMA-B-1138 and FEMA-B-1208, to Luis Rodriguez, Chief, Engineering Management Branch, Federal Insurance and Mitigation Administration, Federal Emergency Management Agency, 500 C Street SW., Washington, DC 20472, (202) 646-4064 or (email) luis.rodriguez3@dhs.gov.

FOR FURTHER INFORMATION CONTACT: Luis Rodriguez, Chief, Engineering Management Branch, Federal Insurance and Mitigation Administration, Federal Emergency Management Agency, 500 C Street SW., Washington, DC 20472, (202) 646-4064 or (email) luis.rodriguez3@dhs.gov.

SUPPLEMENTARY INFORMATION: The Federal Emergency Management Agency (FEMA) publishes proposed determinations of Base (1% annual-chance) Flood Elevations (BFEs) and modified BFEs for communities participating in the National Flood Insurance Program (NFIP), in accordance with section 110 of the Flood Disaster Protection Act of 1973, 42 U.S.C. 4104, and 44 CFR 67.4(a).

These proposed BFEs and modified BFEs, together with the floodplain management criteria required by 44 CFR 60.3, are minimum requirements. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Correction

In the proposed rule published 76 FR 46705, in the August 3, 2011 issue of the Federal Register, FEMA published a table under the authority of 44 CFR 67.4. The table entitled “Lafayette Parish, Louisiana, and Incorporated Areas” addressed the flooding sources Anselm Coulee, Coulee Des Poches, Coulee LaSalle, Coulee Mine, Isaac Verot Coulee, Isaac Verot Coulee—Lateral 2, Vermillion River, and Webb Coulee Lower Reach. The table contained inaccurate information as to the location of referenced elevation and effective and modified elevation in feet. In addition, it did not include several affected communities.

In this notice, FEMA is publishing a table containing the accurate information, to address these errors. The information provided below should be used in lieu of the previously published notices for Lafayette Parish, Louisiana, and Incorporated Areas that are referenced in the summary.

Flooding source(s) | Location of referenced elevation ** | * Elevation in feet (NGVD) + Elevation in feet (NAVD) # Depth in feet above ground ∧ Elevation in meters (MSL): Effective | * Elevation in feet (NGVD) + Elevation in feet (NAVD) # Depth in feet above ground ∧ Elevation in meters (MSL): Modified | Communities affected
Lafayette Parish, Louisiana, and Incorporated Areas
Acadiana Coulee | At the Vermillion River confluence | +15 | +16 | City of Lafayette, Unincorporated Areas of Lafayette Parish.
| Approximately 1,189 feet upstream of Guidry Road | +27 | +25 |
Anselm Coulee | At the upstream side of the Vermillion River confluence | None | +14 | City of Youngsville, Unincorporated Areas of Lafayette Parish.
| At the downstream side of the Isaac Verot Coulee confluence | None | +25 |
Bayou Carencro | Approximately 1,135 upstream of Rue Carnot Road | +23 | +22 | Unincorporated Areas of Lafayette Parish.
| At the downstream side of Billeaux Road | None | +42 |
Bayou Parc Perdue | Approximately 1.03 miles downstream of Chemin Agreable Road | None | +17 | City of Youngsville, Unincorporated Areas of Lafayette Parish.
| At the Isaac Verot Coulee—Lateral 3 confluence | None | +25 |
Bayou Queue De Tortue | Approximately 2.18 miles downstream of State Route 35 | None | +17 | Town of Duson, Unincorporated Areas of Lafayette Parish.
| At the intersection with Whitmore Road | None | +37 |
Beau Basin Coulee | At the Vermillion River confluence | None | +20 | City of Carencro, Unincorporated Areas of Lafayette Parish.
| Approximately 881 feet upstream of I-49 | +40 | +49 |
Broadmoor Coulee | At the Vermillion River confluence | None | +16 | City of Lafayette.
| At the intersection with Ambassador Caffery Parkway | None | +26 |
Coulee Des Poches | At the Vermillion River confluence | +17 | +18 | City of Broussard, City of Lafayette, Unincorporated Areas of Lafayette Parish.
| Approximately 125 feet upstream of the South Pacific Railroad | None | +31 |
Coulee Fortune North | Approximately 400 feet downstream of Bayou Tortue Road | +18 | +15 | City of Broussard, Unincorporated Areas of Lafayette Parish.
| Approximately 0.76 mile upstream of South Morgan Street | +30 | +27 |
Coulee Fortune South | Approximately 700 feet downstream of U.S. Route 90 East | None | +20 | City of Broussard, Unincorporated Areas of Lafayette Parish.
| Approximately 0.57 mile upstream of Heart D Farm Road | None | +27 |
Coulee Ile Des Cannes | At the Vermilion River confluence | None | +16 | City of Lafayette, City of Scott, Unincorporated Areas of Lafayette Parish.
| Approximately 0.53 mile upstream of Cocodrill Road | None | +39 |
Coulee Ile Des Cannes—Lateral 1 | At the Coulee Ile Des Cannes confluence | None | +19 | Unincorporated Areas of Lafayette Parish.
| Approximately 0.70 mile upstream of South Fieldspan Road | None | +28 |
Coulee Ile Des Cannes—Lateral 2 | At the Coulee Ile Des Cannes confluence | +25 | +24 | City of Lafayette, City of Scott, Unincorporated Areas of Lafayette Parish.
| Approximately 1.27 miles upstream of Ridge Road | +30 | +29 |
Coulee Ile Des Cannes—Lateral 3 | Approximately 0.94 mile upstream of Coulee Ile Des Cannes confluence | +29 | +28 | City of Lafayette, City of Scott, Unincorporated Areas of Lafayette Parish.
| Approximately 500 feet upstream of Mills Road | +36 | +35 |
Coulee Ile Des Cannes—Lateral 4 | At the Coulee Ile Des Cannes confluence | None | +27 | Unincorporated Areas of Lafayette Parish.
| Approximately 0.66 mile upstream of D Arceneaux Road | None | +34 |
Coulee LaSalle | Approximately 0.3 mile downstream of Le Triomphe Parkway | None | +24 | City of Broussard, City of Youngsville, Unincorporated Areas of Lafayette Parish.
| Approximately 0.65 mile upstream of Cane Brake Road | None | +25 |
Coulee Lantier | At the Vermillion River confluence | None | +20 | Unincorporated Areas of Lafayette Parish.
| Approximately 1,600 feet upstream of Magellan Road | None | +21 |
Coulee Mine | At the Vermillion River confluence | +16 | +17 | City of Lafayette, City of Scott, Unincorporated Areas of Lafayette Parish.
| At the downstream side of Malapart Road | None | +46 |
Dan Dabaillion Coulee | At the Vermillion River confluence | +17 | +19 | City of Carencro, City of Lafayette.
| At the upstream side of Guidry Lane | None | +49 |
Darby Coulee | At the Vermillion River confluence | None | +14 | Unincorporated Areas of Lafayette Parish.
| At the downstream side of State Route 339 | None | +19 |
Edith Coulee | At the upstream side of State Route 92 | None | +15 | Unincorporated Areas of Lafayette Parish.
| At the upstream side of East Broussard Road | None | +21 |
Grand Avenue Coulee | Approximately 0.42 mile downstream of Johnston Street | +23 | +17 | City of Lafayette.
| At the upstream side of Crawford Street | +30 | +29 |
Isaac Verot Coulee | At the Vermillion River confluence | +15 | +16 | City of Lafayette, Unincorporated Areas of Lafayette Parish.
| At the upstream side of the Anselm Coulee confluence | None | +24 |
Isaac Verot Coulee—Lateral 2 | At the Isaac Verot Coulee confluence | None | +24 | City of Broussard, City of Lafayette, Unincorporated Areas of Lafayette Parish.
| At the downstream side of State Highway 89 | None | +36 |
Isaac Verot Coulee—Lateral 2A | At the Isaac Verot Coulee—Lateral 2 confluence | None | +28 | City of Lafayette, Unincorporated Areas of Lafayette Parish.
| Approximately 800 feet upstream of Becky Lane | None | +30 |
Isaac Verot Coulee—Lateral 3 | At the Isaac Verot Coulee—Lateral 2 confluence | None | +25 | Unincorporated Areas of Lafayette Parish.
| Approximately 250 feet upstream of Bonin Road | None | +28 |
Jupiter Street Coulee | At the Webb Coulee confluence | +30 | +27 | City of Lafayette, Unincorporated Areas of Lafayette Parish.
| At the upstream side of the Southern Pacific Railroad | +40 | +39 |
Manor Park Coulee | At the Vermillion River confluence | +18 | +19 | City of Lafayette, Unincorporated Areas of Lafayette Parish.
| Approximately 0.68 mile upstream of Parklane Road | +18 | +19 |
Point Brule Coulee | Approximately 0.82 mile downstream of State Route 1252 | +22 | +21 | Unincorporated Areas of Lafayette Parish.
| Approximately 0.57 mile upstream of State Route 1252 | +22 | +21 |
Vermillion River | Approximately 600 feet upstream of the Anselm Coulee confluence | +14 | +15 | City of Lafayette, Unincorporated Areas of Lafayette Parish.
| Approximately 1.5 miles upstream of State Route 726 | +22 | +21 |
Webb Coulee (Lower Reach) | Approximately 0.75 mile upstream of the Vermillion River confluence | +15 | +16 | City of Lafayette, Unincorporated Areas of Lafayette Parish.
| At the Jupiter Street Coulee confluence | +30 | +27 |
West Coulee Mine | At the Coulee Mine confluence | +36 | +35 | City of Lafayette, City of Scott, Unincorporated Areas of Lafayette Parish.
| Approximately 1.29 miles upstream of I-10 | +36 | +37 |
* National Geodetic Vertical Datum. + North American Vertical Datum. # Depth in feet above ground. ∧ Mean Sea Level, rounded to the nearest 0.1 meter.
** BFEs to be changed include the listed downstream and upstream BFEs, and include BFEs located on the stream reach between the referenced locations above. Please refer to the revised Flood Insurance Rate Map located at the community map repository (see below) for exact locations of all BFEs to be changed.
Send comments to Luis Rodriguez, Chief, Engineering Management Branch, Mitigation Directorate, Federal Emergency Management Agency, 500 C Street SW., Washington, DC 20472.
ADDRESSES
City of Broussard
Maps are available for inspection at City Hall, 416 East Main Street, Broussard, LA 70518.
City of Carencro
Maps are available for inspection at City Hall, 210 East Saint Peter Street, Carencro, LA 70520.
City of Lafayette
Maps are available for inspection at City Hall, 705 West University Avenue, Lafayette, LA 70506.
City of Scott
Maps are available for inspection at 445 Lions Club Road, Scott, LA 70583.
City of Youngsville
Maps are available for inspection at 305 Iberia Street, Youngsville, LA 70592.
Town of Duson
Maps are available for inspection at Town Hall, 806 First Street, Duson, LA 70529.
Unincorporated Areas of Lafayette Parish
Maps are available for inspection at Lafayette City Hall Annex, 220 West Willow Street, Building B, Lafayette, LA 70502.

(Catalog of Federal Domestic Assistance No. 97.022, “Flood Insurance.”)

Dated: October 12, 2012.
James A. Walke,
Acting Deputy Associate Administrator for Mitigation, Department of Homeland Security, Federal Emergency Management Agency.

[FR Doc. 2012-27116 Filed 11-6-12; 8:45 am]

BILLING CODE 9110-12-P